DEPARTMENT OF TRANSPORTATION

Federal Aviation Administration

14 CFR Part 39

[Docket No. 98-CE-117-AD; Amendment 39-11870; AD 2000-16-13]

RIN 2120-AA64

Airworthiness Directives; British Aerospace HP137 Mk1, Jetstream Series 200, and Jetstream Models 3101 and 3201 Airplanes

AGENCY: Federal Aviation Administration, DOT.

ACTION: Final rule.

SUMMARY: This amendment adopts a new airworthiness directive (AD) that applies to all British Aerospace HP137 Mk1, Jetstream series 200, and Jetstream Models 3101 and 3201 airplanes. This AD requires you to inspect the nose wheel steering system to assure that the free play between the steering handle or knob and the nose wheels is within acceptable limits, and requires you to adjust the free play as necessary. This AD is the result of mandatory continuing airworthiness information (MCAI) issued by the airworthiness authority for the United Kingdom. The actions specified by this AD are intended to prevent the inability to steer the airplane because of excessive free play in the steering linkage. This excessive free play could then result in loss of control of the airplane during take-off, landing, or taxi operations.

DATES: This AD becomes effective on September 29, 2000.

The Director of the Federal Register approved the incorporation by reference of certain publications listed in the regulation as of September 29, 2000.

ADDRESSES: You may get the service information referenced in this AD from British Aerospace Regional Aircraft, Prestwick International Airport, Ayrshire, KA9 2RW, Scotland; telephone: (01292) 479888; facsimile: (01292) 479703. You may examine this information at the Federal Aviation Administration (FAA), Central Region, Office of the Regional Counsel, Attention: Rules Docket No. 98-CE-117-AD, 901 Locust, Room 506, Kansas City, Missouri 64106; or at the Office of the Federal Register, 800 North Capitol Street, NW, suite 700, Washington, DC.

FOR FURTHER INFORMATION CONTACT: Mr. S.M. Nagarajan, Aerospace Engineer, FAA, Small Airplane Directorate, 901 Locust, Room 301, Kansas City, Missouri 64106; telephone: (816) 329-4145; facsimile: (816) 329-4090.

SUPPLEMENTARY INFORMATION:

Discussion

What Caused This AD?

The Civil Airworthiness Authority (CAA), which is the airworthiness authority for the United Kingdom, recently notified the FAA that an unsafe condition may exist on all British Aerospace HP137 Mk1, Jetstream series 200, and Jetstream Models 3101 and 3201 airplanes. The CAA reported a recent incident where the operator of one of the affected airplanes lost control while the airplane was on the ground and veered off the runway. Inspection of this airplane following the incident revealed an unacceptable amount of free play in the nose landing gear steering linkage because of excessive wear in the steering selector differential.

Has FAA Taken Any Action to This Point?

We issued a proposal to amend part 39 of the Federal Aviation Regulations (14 CFR part 39) to include an AD that would apply to all British Aerospace HP137 Mk1, Jetstream series 200, and Jetstream Models 3101 and 3201 airplanes. This proposal was published in the Federal Register as a notice of proposed rulemaking (NPRM) on April 23, 1999 (64 FR 19930). The NPRM proposed to require you to inspect the nose wheel steering system to assure that the free play between the steering handle or knob and the nose wheels is within acceptable limits, and adjust as necessary.

Accomplishment of the proposed action as specified in the NPRM would be required in accordance with British Aerospace Alert Service Bulletin 32-A-JA980840, Original Issue: October 28, 1998, Revision No. 2: December 17, 1998.

What Is the Potential Impact if FAA Took No Action?

This condition, if not corrected in a timely manner, could result in loss of control of the airplane during take-off, landing, or taxi operations.

Was the Public Invited To Comment?

The FAA encouraged interested persons to participate in the making of this amendment. We received one comment in favor of the NPRM and no comments on our determination of the cost to the public.

Has the Manufacturer Issued Revised Service Information?

Operator reports that indicate it is difficult to accomplish the steering backlash check caused British Aerospace to revise Alert Service Bulletin 32-A-JA980840. Improved procedures are included in British Aerospace Alert Service Bulletin 32-A-JA980840, Revision No. 3: May 5, 1999.

The FAA's Determination

What Is FAA's Final Determination on This Issue?

We carefully reviewed all available information related to the subject presented above, including the referenced service bulletin revision, and determined that:

—The actions proposed in the NPRM should be accomplished in accordance with the revised service information;

—Air safety and the public interest require the adoption of the rule as proposed except for the incorporation of this service information and minor editorial corrections; and

—These changes provide the intent that was proposed in the NPRM for correcting the unsafe condition and do not impose any additional burden over what was proposed in the NPRM.

Are There Differences Between This AD and the Service Information?

British Aerospace Alert Service Bulletin 32-A-JA980840, Original Issue: October 28, 1998, Revision No. 3: May 5, 1999, specifies calendar compliance times based on the number of landings each airplane has accumulated. In order to keep the compliance time equal for all airplane operators, we are requiring the inspection when the airplane has 10,000 landings. In order to assure that no affected airplane is inadvertently grounded, we are utilizing 100 landings as a grace period. The compliance time is as follows:

“Upon accumulating 10,000 landings or within the next 100 landings after the effective date of this AD, whichever occurs later.”

Cost Impact

How Many Airplanes Does This AD Impact?

We estimate that this AD affects 350 airplanes in the U.S. registry, and that it will take approximately 6 workhours per airplane to accomplish the inspection at an average labor rate of $60 an hour. Based on these figures, the total cost impact of the inspection on U.S. operators is estimated to be $126,000, or $360 per airplane.

What About the Cost of any Adjustments?

These figures only take into account the costs of the inspection and do not take into account the costs associated with any adjustments that will be necessary if the free play is not within acceptable limits. The adjustment should take approximately 1 workhour at $60 per hour (cost of $60 per airplane). We have no way of determining the number of airplanes that would need adjustments to the nose wheel steering system based on the results of the inspection required in this AD.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-16-13 British Aerospace: Amendment 39-11870; Docket No. 98-CE-117-AD.

(a) What airplanes are affected by this AD? This AD applies to HP137 Mk1, Jetstream Series 200, and Jetstream Models 3101 and 3201 airplanes, all serial numbers, certificated in any category.

(b) Who must comply with this AD? Anyone who wishes to operate any of the above airplanes on the U.S. Register must comply with this AD.

(c) What problem does this AD address? The actions specified by this AD are intended to prevent the inability to steer the airplane because of excessive free play in the steering linkage. This excessive free play could then result in loss of control of the airplane during take-off, landing, or taxi operations.

(d) What actions must I accomplish to address this problem? To address this problem, you must accomplish the following:

Action | Compliance time | Procedures
(1) Inspect the nose wheel steering system of assure that the free play between the steering handle or knob and the nose wheels is within acceptable limits, as specified in the service information | Upon accumulating 10,000 landings or within the next 100 landings after September 29, 2000 (the effective date of this AD), whichever occurs later | Accomplish this inspection in accordance with the A. Inspection portion of the ACCOMPLISHMENT INSTRUCTIONS section of British Aerospace Alert Service Bulletin 32-A-JA980840, Revision No. 3: May 5, 1999.
(2) Adjust the free play between the steering handle or knob and the nose wheels if it is not within the acceptable limits | Required before further flight after the inspection where the free play was not within the acceptable limits | Accomplish in accordance with the B. Rectification portion of the ACCOMPLISHMENT INSTRUCTIONS section of British Aerospace Alert Service Bulletin 32-A-JA980840, Revision No. 3: May 5, 1999.
Note: If the number of landings is unknown, you may use hours time-in-service (TIS) by dividing 10,000 and 100 by 0.75. If hours TIS are utilized to calculate the number of landings, this would calculate the 10,000 landings compliance time to 13,333 hours TIS; and the 100 landings grace period compliance time to 133 hours TIS.

(e) Can I comply with this AD in any other way? You may use an alternative method of compliance or adjust the compliance time if:

(1) Your alternative method of compliance provides an equivalent level of safety; and

(2) The Manager, Small Airplane Directorate approves your alternative. Submit your request through an FAA Principal Maintenance Inspector, who may add comments and then send it to the Manager, Small Airplane Directorate, 901 Locust, Room 301, Kansas City, Missouri 64106.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You may contact S.M. Nagarajan, Aerospace Engineer, FAA, Small Airplane Directorate, 901 Locust, Room 301, Kansas City, Missouri 64016; telephone: (816) 329-4145; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with British Aerospace Alert Service Bulletin 32-A-JA980840, Revision No. 3: May 5, 1999. The Director of the Federal Register approved this incorporation by reference under 5 U.S.C. 552(a) and 1 CFR part 51. You can get copies from British Aerospace Regional Aircraft, Prestwick International Airport, Ayrshire, KA9 2RW, Scotland; telephone: (01292) 479888; facsimile: (01292) 479703. You can look at copies at the FAA, Central Region, Office of the Regional Counsel, 901 Locust, Room 506, Kansas City, Missouri, or at the Office of the Federal Register, 800 North Capitol Street, NW, suite 700, Washington, DC.

(i) When does this amendment become effective? This amendment becomes effective on September 29, 2000.

Issued in Kansas City, Missouri, on August 10, 2000.
Michael Gallagher,
Manager, Small Airplane Directorate, Aircraft Certification Service.

[FR Doc. 00-20776 Filed 8-18-00; 8:45 am]

BILLING CODE 4910-13-U